FEDERAL DEPOSIT INSURANCE CORPORATION

Agency Information Collection Activities: Revision of a Currently Approved Collection; Comment Request

AGENCY: Federal Deposit Insurance Corporation (FDIC).

ACTION: Notice and request for comment.

SUMMARY: In accordance with requirements of the Paperwork Reduction Act of 1995 (44 U.S.C. 3501 et seq.), the FDIC may not conduct or sponsor, and the respondent is not required to respond to, an information collection unless it displays a currently valid Office of Management and Budget (OMB) control number. The FDIC hereby gives notice that it is seeking public comment on proposed revisions to its “Forms Related to Processing Deposit Insurance Claims” information collection (OMB No. 3064-0143). At the end of the comment period, any comments and recommendations received will be analyzed to determine the extent to which the FDIC should modify the proposed revisions prior to submission to OMB for review and approval.

DATES: Comments must be submitted on or before January 25, 2010.

ADDRESSES: Interested parties are invited to submit written comments. All comments should refer to the name of the collection. Comments may be submitted by any of the following methods:

• http://www.FDIC.gov/regulations/laws/federal/notices.html.

• E-mail: comments@fdic.gov.

• Mail: Leneta G. Gregorie (202.898.3719), Counsel, Federal Deposit Insurance Corporation, PA1730-3000, 550 17th Street, NW., Washington, DC 20429.

• Hand Delivery: Comments may be hand-delivered to the guard station at the rear of the 550 17th Street Building (located on F Street), on business days between 7 a.m. and 5 p.m.

A copy of the comments may also be submitted to the FDIC Desk Officer, Office of Information and Regulatory Affairs, Office of Management and Budget, New Executive Office Building, Room 10235, Washington, DC 20503.

FOR FURTHER INFORMATION CONTACT: For further information about the revisions discussed in this notice, please contact Leneta G. Gregorie, by telephone at (202) 898-3719 or by mail at the address identified above. In addition, copies of the proposed revised Forms 7200/05 and 7200/09, and proposed new Form 7200/18 can be obtained at the FDIC's Web site (http://www.fdic.gov/regulations/laws/federal/).

SUPPLEMENTARY INFORMATION: The FDIC is proposing to make minor revisions to simplify and clarify three of the forms used in support of deposit insurance activities related to failed banks.

Title: Forms Related to Processing of Deposit Insurance Claims.

Forms Currently in Use

Declaration for Testamentary Deposit (Single Grantor), Form 7200/03.

Declaration for Public Unit Deposit, Form 7200/04.

Declaration for Trust, Form 7200/05.

Declaration of Independent Activity, Form 7200/06.

Declaration of Independent Activity for Unincorporated Association, Form 7200/07.

Declaration for Joint Ownership Deposit, Form 7200/08.

Declaration for Testamentary Deposit (Multiple Grantors), Form 7200/09.

Declaration for Defined Contribution Plan, Form 7200/10.

Declaration for IRA/KEOGH Deposit, Form 7200/11.

Declaration for Defined Benefit Plan, Form 7200/12.

Declaration of Custodian Deposit, Form 7200/13.

Declaration for Health and Welfare Plan, Form 7200/14.

Declaration for Plan and Trust, Form 7200/15.

Estimated Number of Respondents and Burden Hours
FDIC document | Hours per response | Number of respondents | Burden hours
Declaration for Testamentary Deposit (Single Grantor), Form 7200/03 | 0.50 | 1000 | 500
Declaration for Public Unit Deposit, Form 7200/04 | 0.50 | 500 | 250
Declaration for Trust, Form 7200/05 | 0.50 | 900 | 450
Declaration of Independent Activity, Form 7200/06 | 0.50 | 25 | 12.5
Declaration of Independent Activity for Unincorporated Association, Form 7200/07 | 0.50 | 25 | 12.5
Declaration for Joint Ownership Deposit, Form 7200/08 | 0.50 | 25 | 12.5
Declaration for Testamentary Deposit (Multiple Grantors), Form 7200/09 | 0.50 | 500 | 250
Declaration for Defined Contribution Plan, Form 7200/10 | 1.0 | 50 | 50
Declaration for IRA/KEOGH Deposit, Form 7200/11 | 0.50 | 50 | 25
Declaration for Defined Benefit Plan, Form 7200/12 | 1.0 | 200 | 200
Declaration of Custodian Deposit, Form 7200/13 | 0.50 | 50 | 25
Declaration for Health and Welfare Plan, Form 7200/14 | 1.0 | 200 | 200
Declaration for Plan and Trust, Form 7200/15 | 0.50 | 1300 | 650
Sub-total |  | 4,825 | 2,638
Additional Burden for Deposit Brokers Only |  |  | 138
New Form To Be Added:
Declaration for Irrevocable Trust, Form 7200/18 | 0.50 | 200 | 100
Total |  | 5,095 | 2,875

General Description of Collection: The collection involves forms used by the FDIC to obtain information from individual depositors and deposit brokers necessary to supplement the records of failed depository institutions to make determinations regarding deposit insurance coverage for depositors of failed institutions. The information provided allows the FDIC to identify the actual owners of an account and each owner's interest in the account.

Current Action: The FDIC is proposing modifications, which may be considered substantive and material, to the following forms: Declaration for Trust, Form 7200/05, and Declaration for Testamentary Deposit (Multiple Grantors), Form 7200/09. In addition, the FDIC proposes to add to the collection the following new form: Declaration for Irrevocable Trust, Form 7200/18. Specifically, with respect to Form 7200/05, the FDIC is changing the title of the form to “Declaration for Revocable Trust,” thereby eliminating use of the form for irrevocable trusts; deleting the request for information on ownership interest (by percentage or dollar amount); adding a request for information on beneficiary type (i.e., individual, charity, or non-profit) and adding, for charitable or non-profit organizations, a request that the respondent indicate whether the charity or non-profit is recognized by the IRS. The FDIC believes that the changes to Form 7200/05 do not render it any more or less burdensome than the existing form; therefore, the estimated time to complete the form is unchanged. There is, however, an estimated decrease (of 200) in the number of respondents because the form will no longer be used to collect information for irrevocable trusts. With respect to Form 7200/09, the FDIC is proposing to eliminate the request for information regarding the relationship of each beneficiary to the grantors; eliminate the requirement to provide a date of death for any named beneficiaries who are deceased; add a request for information on beneficiary type (i.e., individual, charity, or non-profit) and add, for charitable or non-profit organization beneficiaries, a request that the respondent indicate whether the charity or non-profit is recognized by the IRS. The FDIC believes that changes to Form 7200/09 do not render it any more or less burdensome than the existing form; therefore, the current burden estimates remain unchanged. With respect to new Form 7200/18, it does collect information regarding irrevocable trusts that previously was collected on Form 7200/05. However, unlike old Form 7200/05, new Form 7200/18 does not request information on the ownership interest (percentage or dollar amount) of beneficiaries, or the date of death or any deceased beneficiaries, but does collect information on the beneficiary type (i.e., individual, charity or non-profit) and, for charitable or non-profit organizations, on whether the entity is recognized by the IRS. The estimated response time for new Form 7200/18 is 30 minutes and the estimated number of respondents is 200.

Request for Comment

Comments are invited on: (a) Whether these collections of information are necessary for the proper performance of the FDIC's functions, including whether the information has practical utility; (b) the accuracy of the estimate of the burden of the information collection, including the validity of the methodology and assumptions used; (c) ways to enhance the quality, utility, and clarity of the information to be collected; and (d) ways to minimize the burden of the information collection on respondents, including through the use of automated collection techniques or other forms of information technology. All comments will become a matter of public record.

Dated at Washington, DC, this 19th day of November 2009.
Valerie J. Best,
Assistant Executive Secretary, Federal Deposit Insurance Corporation.

[FR Doc. E9-28130 Filed 11-23-09; 8:45 am]

BILLING CODE 6714-01-P